DEPARTMENT OF HOUSING AND URBAN DEVELOPMENT

[Docket No. FR-4922-C-13]

Privacy Act of 1974; Notice of a Computer Matching Program; Correction

AGENCY: Office of the Chief Information Officer, HUD.

ACTION: Notice of a Computer Matching Program between HUD and the Department of Justice (DOJ); correction.

SUMMARY: On April 5, 2006, HUD published a notice of its intent to conduct a recurring computer matching program with DOJ. HUD inadvertently stated that computer matching was expected to begin 30 days after publication of the notice in the Federal Register. This notice corrects this error. Computer matching is expected to begin on July 19, 2006.

FOR FURTHER INFORMATION CONTACT: From Recipient Agency Contact: Jeanette Smith, Departmental Privacy Act Officer, Department of Housing and Urban Development, 451 Seventh Street, SW, Room P8001, Washington, DC 20410, telephone number (202) 708-2374. (This is not a toll-free number.) A telecommunication device for hearing and speech-impaired individuals (TTY is available at 1-800-877-8339 (Federal Information Relay Service).

Source Agency Contact: Diane E. Watson, Debt Collection Management, Nationwide Central Intake Facility (NCIF), Department of Justice, 1110 Bonifant Street, Suite 220, Silver Spring, MD 20910-3358, telephone number (301) 585-2391. (This is not a toll-free number.)

SUPPLEMENTARY INFORMATION: On April 5, 2006, HUD issued a public notice of its intent to conduct a recurring computer matching program with DOJ to utilize a computer information system of HUD, the Credit Alert Interactive Verification Reporting System (CAIVRS), with DOJ's debtor files.

Subsequent to publication of the April 5, 2006, notice, HUD discovered that an incorrect date was given for the computer matching program to begin. Computer matching is expected to begin on July 19, 2006.

In the Federal Register of April 5, 2006, in FR Doc. E6-4886, on page 17129, in the second column, correct the “Dates” caption to read:

DATES: Effective Date: Computer matching is expected to begin July 19, 2006, unless comments are received which will result in a contrary determination, or 40 days from the date a computer matching agreement is signed, whichever is later.

Comments Due Date: June 5, 2006.

Dated: April 25, 2006.
Lisa Schlosser,
Chief Information Officer.

[FR Doc. E6-6714 Filed 5-3-06; 8:45 am]

BILLING CODE 4210-67-P